DEPARTMENT OF HOMELAND SECURITY

Federal Emergency Management Agency

[Docket ID FEMA-2017-0002; Internal Agency Docket No. FEMA-B-1718]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 20, 2017.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1718, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: May 24, 2017.
Roy E. Wright,
Deputy Associate Administrator for Insurance and Mitigation, Department of Homeland Security, Federal Emergency Management Agency.

I. Watershed-based studies:

Community | Community map repository address
Etowah Watershed
Maps Available for Inspection Online at: http://www.fema.gov/preliminaryfloodhazarddata
Bartow County, Georgia and Incorporated Areas
City of Adairsville | City Hall, 116 Public Square, Adairsville, GA 30103.
City of Cartersville | Planning and Zoning Department, 10 North Public Square, Cartersville, GA 30120.
City of Emerson | City Hall, 700 Highway 293, Emerson, GA 30137.
City of Euharlee | City Hall, 30 Burge's Mill Road, Euharlee, GA 30145.
City of Kingston | City Hall, 30 West Main Street, Kingston, GA 30145.
City of Taylorsville | Mayor's Office, 11 Euharlee Street, Taylorsville, GA 30178.
City of White | City Hall, 29 West Rocky Street, White, GA 30184.
Unincorporated Areas of Bartow County | Bartow County Engineering Department, 135 West Cherokee Avenue, Suite 124, Cartersville, GA 30120.
Cobb County, Georgia and Incorporated Areas
City of Acworth | City Hall, 4415 Senator Russell Avenue, Acworth, GA 30101.
City of Kennesaw | Public Works Department, 3080 Moon Station Road, Kennesaw, GA 30144.
City of Marietta | Public Works Department, 205 Lawrence Street, Marietta, GA 30060.
City of Smyrna | City Engineer's Office, Public Works Complex, 2190 Atlanta Road, Smyrna, GA 30080.
Unincorporated Areas of Cobb County | Cobb County Water System Stormwater Management, 680 South Cobb Drive, Marietta, GA 30060.
Upper Tombigbee Watershed
Maps Available for Inspection Online at: http://www.fema.gov/preliminaryfloodhazarddata
Itawamba County, Mississippi and Incorporated Areas
City of Fulton | City Hall, 213 West Wiygul Street, Fulton, MS 38843.
Town of Mantachie | Town Hall, 3256 Highway 371 North, Mantachie, MS 38855.
Town of Tremont | Town Hall, 12761 Highway 23 North, Tremont, MS 38876.
Unincorporated Areas of Itawamba County | Itawamba County Courthouse, Chancery Clerk's Office, 201 West Main Street, Fulton, MS 38843.
Monroe County, Mississippi and Incorporated Areas
City of Aberdeen | City Hall, 125 West Commerce Street, Aberdeen, MS 39730.
City of Amory | City Hall, 109 Front Street South, Amory, MS 38821.
Town of Smithville | Town Hall, 63443 Highway 25 North, Smithville, MS 38870.
Unincorporated Areas of Monroe County | Monroe County Emergency Management Office, 50058 Airport Road, Aberdeen, MS 39730.
Village of Gattman | Mayor's Office, 50005 Mayor Street, Gattman, MS 38844.

II. Non-watershed-based studies:

Community | Community map repository address
Duval County, Florida (All Jurisdictions)
Maps Available for Inspection Online at: http://www.fema.gov/preliminaryfloodhazarddata
Project: 11-04-1761S Preliminary Date: July 29, 2016
City of Atlantic Beach | City Hall, 800 Seminole Road, Atlantic Beach, FL 32233.
City of Jacksonville | Edward Ball Building, Development Services, Room 2100, 214 North Hogan Street, Jacksonville, FL 32202.
City of Jacksonville Beach | City Hall, 11 North 3rd Street, Jacksonville Beach, FL 32250.
City of Neptune Beach | City Hall, 116 1st Street, Neptune Beach, FL 32266.
Beaufort County, North Carolina and Incorporated Areas
Maps Available for Inspection Online at: http://www.fema.gov/preliminaryfloodhazarddata
Project: 11-04-0730S Preliminary Date: June 30, 2016
City of Washington | City Hall, 102 East 2nd Street, Washington, NC 27889.
Town of Aurora | Town Hall, 295 Main Street, Aurora, NC 27806.
Town of Bath | Town Hall, 103 South King Street, Bath, NC 27808.
Town of Belhaven | Building and Inspection Department, 315 East Main Street, Belhaven, NC 27810.
Town of Chocowinity | Public Works Department, 3391 Highway 17 South, Chocowinity, NC 27817.
Town of Pantego | Town Hall, 142 Swamp Road, Pantego, NC 27860.
Town of Washington Park | Washington Park Town Office, 408 Fairview Avenue, Washington, NC 27889.
Unincorporated Areas of Beaufort County | Beaufort County Inspections Department, 220 North Market Street, Washington, NC 27889.
Cabarrus County, North Carolina and Incorporated Areas
Maps Available for Inspection Online at: http://www.fema.gov/preliminaryfloodhazarddata
Project: 13-04-6162S Preliminary Date: August 30, 2016
City of Concord | GIS Division, 35 Cabarrus Avenue West, Concord, NC 28025.
City of Kannapolis | City Hall, 401 Laureate Way, Kannapolis, NC 28081.
City of Locust | City Hall, 186 Ray Kennedy Drive, Locust, NC 28097.
Town of Harrisburg | Town Hall, 4100 Main Street, Suite 101, Harrisburg, NC 28075.
Town of Midland | Town Hall, 4293-B Highway 24/27 East, Midland, NC 28107.
Town of Mount Pleasant | Town Hall, 8590 Park Drive, Mount Pleasant, NC 28124.
Unincorporated Areas of Cabarrus County | Cabarrus County Planning Services, 65 Church Street Southeast, Concord, NC 28025.
Carteret County, North Carolina and Incorporated Areas
Maps Available for Inspection Online at: http://www.fema.gov/preliminaryfloodhazarddata
Project: 11-04-0730S Preliminary Date: June 30, 2016
Town of Atlantic Beach | Town Hall, 125 West Fort Macon Road, Atlantic Beach, NC 28512.
Town of Beaufort | Town Hall, 701 Front Street, Beaufort, NC 28516.
Town of Bogue | Town Hall, 121 Chimney Branch Road, Bogue, NC 28570.
Town of Cape Carteret | Town Hall, 102 Dolphin Street, Cape Carteret, NC 28584.
Town of Cedar Point | Town Hall, 427 Sherwood Avenue, Cedar Point, NC 28584.
Town of Emerald Isle | Town Hall, 7500 Emerald Drive, Emerald Isle, NC 28594.
Town of Indian Beach | Town Hall, 1400 Salter Path Road, Indian Beach, NC 28512.
Town of Morehead City | Municipal Building, 706 Arendell Street, Morehead City, NC 28557.
Town of Newport | Town Hall, 200 Howard Boulevard, Newport, NC 28570.
Town of Peletier | Town Hall, 1603 Highway 58, Peletier, NC 28584.
Town of Pine Knoll Shores | Town Hall, 100 Municipal Circle, Pine Knoll Shores, NC 28512.
Unincorporated Areas of Carteret County | Carteret County Planning and Inspections Department, 402 Broad Street, Beaufort, NC 28516.
Craven County, North Carolina and Incorporated Areas
Maps Available for Inspection Online at: http://www.fema.gov/preliminaryfloodhazarddata
Project: 11-04-7660S Preliminary Date: June 30, 2016
City of Havelock | Planning Department, 199 Cunningham Boulevard, Havelock, NC 28532.
City of New Bern | City Hall, 300 Pollock Street, New Bern, NC 28560.
Town of Bridgeton | Town Hall, 202 B Street, Bridgeton, NC 28519.
Town of River Bend | Town Hall, 45 Shoreline Drive, River Bend, NC 28562.
Town of Trent Woods | Town Hall, 898 Chelsea Road, Trent Woods, NC 28562.
Unincorporated Areas of Craven County | Craven County GIS and Mapping Department, 226 Pollock Street, New Bern, NC 28560.
Dare County, North Carolina and Incorporated Areas
Maps Available for Inspection Online at: http://www.fema.gov/preliminaryfloodhazarddata
Project: 11-04-8218S Preliminary Date: June 30, 2016
Town of Duck | Administrative Office, 1200 Duck Road, Duck, NC 27949.
Town of Kill Devil Hills | Planning and Inspections, 102 Town Hall Drive, Kill Devil Hills, NC 27948.
Town of Kitty Hawk | Town Hall, 101 Veterans Memorial Drive, Kitty Hawk, NC 27949.
Town of Manteo | Town Hall, 407 Budleigh Street, Manteo, NC 27954.
Town of Nags Head | Planning Department, 5401 South Croatan Highway, Nags Head, NC 27959.
Town of Southern Shores | Town Hall, 5375 North Virginia Dare Trail, Southern Shores, NC 27949.
Unincorporated Areas of Dare County | Dare County Tax Mapping Department, 962 Marshall C. Collins Drive, Manteo, NC 27954.
Hyde County, North Carolina and Incorporated Areas
Maps Available for Inspection Online at: http://www.fema.gov/preliminaryfloodhazarddata
Project: 11-04-0730S Preliminary Date: June 30, 2016
Unincorporated Areas of Hyde County | Hyde County Building Inspections Department, 1223 Main Street, Swan Quarter, NC 27885.
Iredell County, North Carolina and Incorporated Areas
Maps Available for Inspection Online at: http://www.fema.gov/preliminaryfloodhazarddata
Project: 16-04-7682S Preliminary Date: August 30, 2016
Unincorporated Areas of Iredell County | Iredell County Planning Department, 349 North Center Street, Statesville, NC 28687.
Jones County, North Carolina and Incorporated Areas
Maps Available for Inspection Online at: http://www.fema.gov/preliminaryfloodhazarddata
Project: 11-04-7660S Preliminary Date: June 30, 2016
Town of Pollocksville | Town Hall, 103 Main Street, Pollocksville, NC 28573.
Unincorporated Areas of Jones County | Jones County Government Office Complex, 418 Highway 58 North, Trenton, NC 28585.
Lenoir County, North Carolina and Incorporated Areas
Maps Available for Inspection Online at: http://www.fema.gov/preliminaryfloodhazarddata
Project: 16-04-4756S Preliminary Date: June 30, 2016
Unincorporated Areas of Lenoir County | Lenoir County Administration Building, 130 South Queen Street, Kinston, NC 28502.
Mecklenburg County, North Carolina and Incorporated Areas
Maps Available for Inspection Online at: http://www.fema.gov/preliminaryfloodhazarddata
Project: 13-04-6162S Preliminary Date: August 30, 2016
City of Charlotte | Charlotte-Mecklenburg Storm Water Services, 2145 Suttle Avenue, Charlotte, NC 28208.
Town of Cornelius | Town Hall, 21445 Catawba Avenue, Cornelius, NC 28031.
Town of Davidson | Planning Department, 216 South Main Street, Davidson, NC 28036.
Town of Huntersville | Planning Department, 101 Huntersville-Concord Road, Huntersville, NC 28078.
Unincorporated Areas of Mecklenburg County | Charlotte-Mecklenburg Storm Water Services, 2145 Suttle Avenue, Charlotte, NC 28208.
Onslow County, North Carolina and Incorporated Areas
Maps Available for Inspection Online at: http://www.fema.gov/preliminaryfloodhazarddata
Project: 11-04-0817S Preliminary Date: June 30, 2016
City of Jacksonville | City Hall, 815 New Bridge Street, Jacksonville, NC 28540.
Town of Holly Ridge | Town Hall, 212 North Dyson Street, Holly Ridge, NC 28445.
Town of North Topsail Beach | Town Hall, 2008 Loggerhead Court, North Topsail Beach, NC 28460.
Town of Richlands | Town Hall, 302 South Wilmington Street, Richlands, NC 28574.
Town of Surf City | Building Inspection Department, 214 North New River Drive, Surf City, NC 28445.
Town of Swansboro | Town Hall, Zoning Department, 601 West Corbett Avenue, Swansboro, NC 28584.
Unincorporated Areas of Onslow County | Onslow County Floodplain Administration, 234 Northwest Corridor Boulevard, Jacksonville, NC 28540.
Pamlico County, North Carolina and Incorporated Areas
Maps Available for Inspection Online at: http://www.fema.gov/preliminaryfloodhazarddata
Project: 11-04-0730S Preliminary Date: June 30, 2016
Town of Alliance | Pamlico County Building Inspection Department, 202 Main Street, Bayboro, NC 28515.
Town of Bayboro | Town Hall, 208 North Street, Bayboro, NC 28515.
Town of Grantsboro | Pamlico County Building Inspection Department, 202 Main Street, Bayboro, NC 28515.
Town of Mesic | Pamlico County Building Inspection Department, 202 Main Street, Bayboro, NC 28515.
Town of Minnesott Beach | Town Hall, 11758 Highway 306 South, Minnesott Beach, NC 28510.
Town of Oriental | Town Hall, 507 Church Street, Oriental, NC 28571.
Town of Stonewall | Town Hall, 74 Spain Farm Road, Stonewall, NC 28583.
Unincorporated Areas of Pamlico County | Pamlico County Building Inspection Department, 202 Main Street, Bayboro, NC 28515.
Pitt County, North Carolina and Incorporated Areas
Maps Available for Inspection Online at: http://www.fema.gov/preliminaryfloodhazarddata
Project: 16-04-4756S Preliminary Date: June 30, 2016
City of Greenville | City Hall, 200 West 5th Street, Greenville, NC 27858.
Town of Grimesland | Town Hall, 7592 Pitt Street, Grimesland, NC 27837.
Unincorporated Areas of Pitt County | Pitt County Planning Department, 1717 West 5th Street, Greenville, NC 27834.
Village of Simpson | Village Hall, 2768 Thompson Street, Simpson, NC 27879.
Rowan County, North Carolina and Incorporated Areas
Maps Available for Inspection Online at: http://www.fema.gov/preliminaryfloodhazarddata
Project: 16-04-7124S Preliminary Date: August 30, 2016
Unincorporated Areas of Rowan County | Rowan County Planning and Development Department, 402 North Main Street, #204, Salisbury, NC 28144.
Stanly County, North Carolina and Incorporated Areas
Maps Available for Inspection Online at: http://www.fema.gov/preliminaryfloodhazarddata
Project: 16-04-7682S Preliminary Date: August 30, 2016
Town of Stanfield | Town Hall, 103 West Stanly Street, Stanfield, NC 28163.
Unincorporated Areas of Stanly County | Stanly County Planning and Zoning Department, 1000 North 1st Street, Albemarle, NC 28001.
Tyrrell County, North Carolina and Incorporated Areas
Maps Available for Inspection Online at: http://www.fema.gov/preliminaryfloodhazarddata
Project: 11-04-8218S Preliminary Date: June 30, 2016
Town of Columbia | Municipal Building, 103 Main Street, Columbia, NC 27925.
Unincorporated Areas of Tyrrell County | Tyrrell County Administration Building, 108 South Water Street, Columbia, NC 27925.
Union County, North Carolina and Incorporated Areas
Maps Available for Inspection Online at: http://www.fema.gov/preliminaryfloodhazarddata
Project:16-04-7682S Preliminary Date: August 30 2016
Town of Fairview | Fairview Land Use Office, 7400 Concord Highway, Monroe, NC 28110.
Unincorporated Areas of Union County | Union County Planning Department, 500 North Main Street, Suite 70, Monroe, NC 28112.
Washington County, North Carolina and Incorporated Areas
Maps Available for Inspection Online at: http://www.fema.gov/preliminaryfloodhazarddata
Project: 16-04-4756S Preliminary Date: June 30, 2016
Unincorporated Areas of Washington County | Washington County Permits, Inspections and Emergency Management Department, 205 East Main Street, Plymouth, NC 27962.
Summit County, Utah and Incorporated Areas
Maps Available for Inspection Online at: http://www.fema.gov/preliminaryfloodhazarddata
Project: 12-08-0134S Preliminary Date: November 17, 2016
City of Coalville | City Hall, 10 North Main Street, Coalville, UT 84017.
City of Kamas | City Hall, 170 North Main Street, Kamas, UT 84036.
City of Oakley | City Hall, 960 West Center Street, Oakley, UT 84055.
City of Park City | City Hall, 445 Marsac Avenue, Park City, UT 84060.
Unincorporated Areas of Summit County | Summit County Courthouse, 60 North Main Street, Coalville, UT 84017.

[FR Doc. 2017-12973 Filed 6-21-17; 8:45 am]

BILLING CODE 9110-12-P